DEPARTMENT OF HOMELAND SECURITY

Coast Guard

[Docket No. USCG-2016-1059]

Towing Safety Advisory Committee; January 2017 Teleconference

AGENCY: Coast Guard, Department of Homeland Security.

ACTION: Notice of teleconference meeting.

SUMMARY: The Towing Safety Advisory Committee will meet, via teleconference, to discuss the five current tasks of the Committee. The Committee is expected to receive the final report from the subcommittee on Electronic Charting Systems and an interim final report from the subcommittee on Implementation of Subchapter M. The subcommittee on Implementation of Subchapter M will also receive additional tasking to review a Towing Safety Management System Option Compliance Guidebook. The subcommittees on Towing of Liquefied Natural Gas Barges, Inland Firefighting Training, and Articulated Tug-Barge Operations are expected to provide progress reports. This meeting will be open to the public.

DATES: The full Committee will meet by teleconference on Wednesday, January 18, 2017, from 1 p.m. until 3 p.m. Eastern Standard Time. Please note that this meeting may close early if the Committee has completed its business.

ADDRESSES: To join the teleconference, contact the individual listed in the FOR FURTHER INFORMATION CONTACT section no later than 1 p.m. on January 11, 2017, to obtain the needed information. The number of teleconference lines is limited and will be available on a first-come, first-served basis. If you prefer to join in person at U.S. Coast Guard Headquarters, it will be hosted in Room 3R14-01, 2703 Martin Luther King Jr Ave SE., Washington, DC 20593. Foreign national attendees will be required to preregister no later than 5 p.m. on January 5, 2017, to be admitted to the meeting. U.S. citizen attendees will be required to pre-register no later than 5 p.m. on January 11, 2017, to be admitted to the meeting. To pre-register, contact Mr. William J. Abernathy at William.J.Abernathy@uscg.mil, with TSAC in the subject line and provide your name, company and telephone number; if a foreign national, also provide your country of citizenship, and passport number and expiration date. All attendees will be required to provide a government-issued picture identification card in order to gain admittance to the building.

For information on facilities or services for individuals with disabilities or to request special assistance at the meeting, contact the individual listed in the FOR FURTHER INFORMATION CONTACT as soon as possible.

Instructions: To facilitate public participation, written comments on the issues to be considered by the Committee as listed in the “Agenda” section below must be submitted no later than January 11, 2017, if you want the Committee members to review your comments prior the meeting. You must include the words “Department of Homeland Security” and the docket number [USCG-2016-1059]. Written comments may be submitted using the Federal eRulemaking Portal at http://www.regulations.gov. If you encounter technical difficulties, contact the individual in the FOR FURTHER INFORMATION CONTACT section of this notice. Comments received will be posted without alteration at http://regulations.gov, including any personal information provided. You may review a Privacy Act notice regarding the Federal Docket Management system in the March 24, 2005, issue of the Federal Register (70 FR 15086).

Docket Search: For access to the docket to read documents or comments related to this notice, go to http://www.regulations.gov, type USCG-2016-1059 in the Search box, press Enter, and then click on the item you wish to view.

FOR FURTHER INFORMATION CONTACT: Mr. William J. Abernathy, Alternate Designated Federal Officer of the Towing Safety Advisory Committee, 2703 Martin Luther King Jr Ave SE., Stop 7509, Washington, DC 20593-7509, telephone 202-372-1363, fax 202-372-8382 or william.j.abernathy@uscg.mil.

SUPPLEMENTARY INFORMATION: Notice of this meeting is in compliance with the Federal Advisory Committee Act, (Title 5, U.S.C. Appendix). As stated in 33 U.S.C. 1231a, the Towing Safety Advisory Committee provides advice and recommendations to the Department of Homeland Security on matters related to shallow-draft inland and coastal waterway navigation and towing safety.

Agenda of Meeting

The agenda for the January 18, 2017, teleconference is as follows:

(1) Final report from the subcommittee on “Recommendations on Electronic Charting Systems (ECS) Carriage on Towing Vessels (Task 15-03).”

(2) An interim final report and discussion of additional tasking for the subcommittee working on “Recommendations on the Implementation of 46 Code of Federal Regulations Subchapter M—Inspection of Towing Vessels (Task 16-01).”

(3) Progress reports from the other three active subcommittees on “Recommendations Regarding New and Updated Policy for Articulated Tug and Barge (ATB) Combinations Currently Contained in NVIC 2-81, Change 1 (Task No. 15-02)”, “Recommendations Regarding Firefighting Training Requirements for Officer Endorsements for Master or Mate (Pilot) of Towing Vessels, Except Apprentice Mate (Steersman) of Towing Vessels in Inland Service (Task No. 16-02)”, and “Recommendations Regarding Operational Risks Associated With Towing Liquefied Natural Gas Barges Astern (Task 16-03).”

(4) TSAC Member and Public Comment periods. A copy of the task statements, draft final reports, and the agenda will be available at https://homeport.uscg.mil/tsac.

Public comments or questions will be taken throughout the teleconference as the Committee discusses the issues and prior to deliberations and voting. There will also be a public comment period at the end of the teleconference. Speakers are requested to limit their comments to three minutes. Please note that this public comment period may start before 2:45 p.m. if all other agenda items have been covered and may end before 3 p.m. if all of those wishing to comment have done so. Please contact Mr. William Abernathy listed in the FOR FURTHER INFORMATION CONTACT section to register as a speaker.

Notice of Future 2017 Towing Safety Advisory Committee Meetings

To receive automatic email notices of future Towing Safety Advisory Committee meetings in 2017, go to the online docket, USCG-2016-1059 (http://www.regulations.gov/#!docketDetail;D=USCG-2016-1059), and select the sign-up-for-email-alerts option. We plan to use the same docket number for all Towing Safety Advisory Committee meeting notices in 2017, so when the next meeting notice is published you will receive an email alert from http://www.regulations.gov when the notice appears in this docket, in addition to notices of other items being added to the docket.

Dated: December 19, 2016
J.G. Lantz,
Director of Commercial Regulations and Standards.

[FR Doc. 2016-30952 Filed 12-22-16; 8:45 am]

BILLING CODE 9110-04-P